DEPARTMENT OF TRANSPORTATION

Federal Highway Administration

Notice of Final Agency Actions on Proposed Highways in Colorado

AGENCY: Federal Highway Administration (FHWA), DOT.

ACTION: Notice of Limitation on Claims for Judicial Review of Actions by FHWA and Other Federal Agencies.

SUMMARY: This notice announces actions taken by the FHWA and other Federal agencies that are final within the meaning of 23 U.S.C. 139(1)(1). The actions relate to various proposed highway projects in the State of Colorado. Those actions grant licenses, permits, and approvals for the projects.

DATES: By this notice, the FHWA is advising the public of final agency actions subject to 23 U.S.C. 139(1)(1). A claim seeking judicial review of the Federal agency actions on any of the listed highway projects will be barred unless the claim is filed on or before November 13, 2007. If the Federal law that authorizes judicial review of a claim provides a time period of less than 180 days for filing such calim, then that shorter time period still applies.

FOR FURTHER INFORMATION CONTACT: Mr. Michael Vanderhoof, Environmental Program Manager, Federal Highway Administration, 12300 W. Dakota Ave., Room 180, Lakewood, CO 80228. Office Hours: 7 a.m.-4:30 p.m. MST, Monday through Friday. Phone: 720-963-3013. E-mail: michael.vanderhoof@fhwa.dot.gov., or Brad Beckham, Environmental Programs Branch Manager, Colorado Department of Transportation, 4201 East Arkansas, Denver, CO 80222. Phone: 303-757-9533. E-mail: brad.beckham@dot.state.co.us.

SUPPLEMENTARY INFORMATION: Notice is hereby given that the FHWA and other Federal agencies have taken final agency actions by issuing licenses, permits, and approvals for the highway projects in the State of Colorado that are listed below. The actions by the Federal agencies on a project, and the laws under which such actions were taken, are described in the environmental assessment (EA), or environmental impact statement (EIS) issued in connection with the project, and in other documents in the FHWA administrative record for the project. The EA, or Final EIS (FEIS), and other documents from the FHWA administrative record files for the listed projects are available by contacting the FHWA or the Colorado Department of Transportation (CDOT) at the addresses provided above. Project information may also be available through the CDOT Web site at http://www.dot.state.co.us/TravelInfo/Studies.htm, or at public libraries in the relevant project areas.

This notice applies to all Federal agency decisions on the listed project as of the issuance date of this notice and all laws under which such actions were taken, including but not limited to:

1. National Environmental Policy Act (NEPA) [42 U.S.C. 4321-4351].

2. Federal-Aid Highway Act [23 U.S.C. 109].

3. Clean Air Act, 42 U.S.C. 7401-7671(q).

4. Section 4(f) of the Department of Transportation Act of 1966 [49 U.S.C. 303];

5. Endangered Species Act [16 U.S.C. 1531-1544 and Section 1536].

6. Section 106 of the National Historic Preservation Act of 1966, as amended [16 U.S.C. 470(f) et seq.].

7. Clean Water Act, 33 U.S.C. 1251-1377 (Section 404, Section 402, Section 401, Section 319).

8. E.O. 11990, Protection of Wetlands.

9. E.O. 11988, Floodplain Management.

10. E.O. 12898, Federal Actions to Address Environmental Justice in Minority Populations and Low Income Populations.

The projects subject to this notice are:

1. Project: South Interstate 25 (I-25) and US 85 Corridor. Location: Cities of Highlands Ranch, Lone Tree, and Castle Rock, Douglas County. Project Reference Number: IM 0252-317. This project involves the construction of one new lane in each direction on US 85 from C-470 to Meadows Parkway, and on I-25 between C-470 and Douglas Lane. This will include improvements to ten interchanges, improvement of bicycle/pedestrian facilities, construction of a new park and ride, a new frontage road and improvements to various other roadway features. The improvements are proposed to address present and future transportation inadequacies and safety problems in the two roadway corridors. The project length is 17 miles on I-25 and 16 miles on US 85. A FEIS/Draft Section 4(f) Evaluation was completed in May 2001, a Record of Decision (ROD)/Final Section 4(f) Evaluation was issued on 8/14/01, and a Revised ROD/Final Section 4(f) Evaluation was issued on 10/25/02.

2. Project: Crystal Valley/Dawson Ridge Parkway/I-25 Interchange. Location: City of Castle Rock, Douglas County. Project Reference Number: CC C470-022. The preferred alternative includes constructing a new diamond interchange with Crystal Valley/Dawson Ridge Parkway crossing over I-25 at the intersection of I-25 and Douglas Lane on the east, and Territorial Road on the west. The purpose of the project is to enhance the local ancillary roadway network and eliminate one railroad crossing, thereby improving safety of access. An Environmental Assessment and draft Section 4(f) Evaluation was completed on September 20, 2004 and a Finding of No Significant Impact (FONSI)/Final Section 4(f) Evaluation was issued on 2/28/05.

3. Project: I-70/32nd Avenue Interchange. Location: Cities of Wheat Ridge and Lakewood. Project reference Number: IM 0703-294. The proposed action is to improve the I-70/32nd Avenue interchange, State Highway (SH) 58 from McIntyre Street to I-70, and adjacent portions of 32nd Avenue. The purpose is to relieve traffic congestion at the I-70/32nd Avenue interchange and to address future transportation demands on the local street network due to regional growth and commercial development. An Environmental Assessment was completed on October 23, 2006 and a FONSI was issued on February 28, 2007.

4. Project: State Highway (SH) 9, Frisco to Breckenridge. Location: Cities of Frisco and Breckenridge, Summit County. Project Reference Number: STA 009A-021. The proposed action will improve the existing two lane highway to a four-lane roadway that will include necessary turn lanes, acceleration/deceleration lanes, curb and gutter, medians, and shoulders The project extends from Frisco (milepost 97) south to Breckenridge (milepost 85). The purpose of the improvement is to improvement safety and mobility on the route. A FEIS was completed on March 4, 2004 and a ROD was issued on May 24, 2004.

5. Project: US 285, Foxton Road to Bailey. Location: Cities of Bailey, Pine Junction, Shaffer's Crossing, and Conifer, Jefferson and Park Counties. Project Reference Number: NH 2854-093. The Preferred Alternative is to widen US 285 to four through lanes with a depressed rural median between the top of Crow Hill and Foxton Road, and two through lanes and a passing lane between Bailey and the top of Crow Hill. Shoulder, clear zone, access, and safety improvements will be included the entire length of the project. The primary purpose is to improve travel time and enhance safety along the 14.7 mile section of road. An Environmental Assessment was completed in August 11, 2004 and a FONSI issued on June 30, 2005.

6. Project: I-25 through Colorado Springs. Location: Cities of Colorado Springs and Monument, El Paso County. Project Reference Number IM 0252-316. This project will widen 26 miles of I-25 between SH 105 and South Academy Boulevard. A six lane section would be constructed south of the US 24 bypass to South Academy and north of Briargate to SH 105. The central 12 mile section from the Briargate Parkway to the US 24 bypass would be constructed to 8 lanes. The project will include interchange reconstruction, HOV lanes, congestion management, transit and park and ride accommodations and bicycle/pedestrian accommodations. The purpose is to provide additional capacity to relieve existing and projected future traffic congestion. An Environmental Assessment was completed on March 29, 2004 and a FONSI issued on September 10, 2004. http://www.i25coloradosprings.com/ea/EAcontents.htm.

7. Project: Eagle Airport Interchange. Location: Town of Eagle, Eagle County. Project Reference Number: IM 0702-229. the proposed action is to construct a new interchange on Interstate 70 and a connector road to improve access to the Eagle County Airport. The project is located approximately 3 miles west of Eagle, Colorado. An Environmental Assessment was completed in August 2004 and a FONSI issued on June 23, 2005. http://www.i70-eagle-airport-interchange-ea.com.

8. Project: US 550, New Mexico State Line to Durango. Location: South of City of Durango, La Plata County. Project Reference Number: NH 5501-011. The project includes extending the existing four-lanes on US 550 between the New Mexico/Colorado State Line and County Road 220 (MP 1.0 to MP 15.4). The purpose of the project is to improve safety, address future highway capacity needs, improve access conditions, and address roadway deficiencies. The roadway will generally follow the existing highway alignment with alignment shifts east and west as needed to improve highway geometry. An Environmental Assessment was completed on July 27, 2005 and a FONSI issued on December 21, 2005.

9. Project: 120th Avenue Extension, Quebec to US 85. Location: City of Thornton, Adams county, SH 128 (120th Avenue). Project Reference Number: STU C120-007. The proposed action is to construct a four-lane extension of 120th Avenue from Quebec Street east 2.5 miles to US 85. This will require a new bridge over the south Platte River. The project length is 2.5 miles. An Environmental Assessment was completed on February 1, 1996 and a FONSI was issued on July 31, 2003.

10. Project: SH 128 (120th Avenue) over US 36. Location: City and County of Broomfield. Project Reference Number: DEMO 0361-067. This project proposes to construct a new six-lane roadway across US 36 to connect 120th Avenue and SH 128. The purpose of the project is to accommodate existing and future east-west traffic, reduce out of direction travel, and alleviate congestion. The project length is 1.2 miles. An Environmental Assessment/Draft Section 4(f) Evaluation was completed March 30, 2005 and a FONSI/Final Section 4(f) was issued on January 17, 2006.

11. Project: Wadsworth/Grandview Railroad Separation. Location: City of Arvada, Jefferson County. Project Reference Number: TCSP TCSE-002. This project proposes to reconstruct the Wadsworth bypass 25 feet below ground and construct two bridges to carry Burlington Northern Santa Fe RR and Grandview over the Bypass. This action will improve safety and eliminate the traffic congestion and delays caused by the existing at-grade railroad crossing. The project length is less than 0.5 miles. An Environmental Assessment was completed May 9, 2005 and FONSI issued August 31, 2005.

12. Project: I-225 and Colfax Avenue Interchange. Location: City of Aurora, Adams and Arapahoe Counties. Project Reference Number: STU 2254-068. The proposed action is to expand the existing I-225/Colfax Avenue interchange to add an I-225 connection to the north at 17th Street via collector distributor roads. The purpose is to relieve congestion at the I-225/Colfax Avenue Interchange. The project length is less than one mile. An Environmental Assessment was completed on October 20, 2005 and FONSI was issued on April 24, 2007.

13. Project: I-25 at 126th Avenue Interchange. Location: Cities of Westminster and Thornton, Adams County. Project Reference Number: CC 0253-175. The proposed action is to construct a new interchange at 136th Avenue and I-25. The project length is less than 1 mile. The purpose of the improvement is to improve access and congestion. An Environmental Assessment/Draft Section 4(f) Evaluation was completed on May 15, 2002 and a FONSI/Final Section 4(f) Evaluation was issued on January 8, 2003.

14. Project: I 70/SH 58 Interchange. Location: City of Golden, Jefferson County. Project Reference Number: IM 0703-246. The proposed action is to improve the I-70/SH 58 interchange by adding eastbound SH 58 to westbound I 70 and eastbound I-70 to westbound SH 58 movements. This will require shifting SH 58 and realigning all existing ramps plus constructing a new Eastbound SH 58 to westbound I-70 ramp and constructing a new flyover ramp from eastbound I-70 to westbound SH 58. The purpose is to reduce traffic on local arterials and improve traffic operations on I-70. The project length is less than 1 mile. An Environmental Assessment was completed in July 2002 and a FONSI was issued on September 1, 2004.

15. Project: US 34 Business Route. Location: City of Greeley, Weld County. Project Reference Number: STA 0342-037. This project involves the reconstruction of US 34 Business Route from a two lane to a four lane facility between 71st Avenue and State Highway 257 in the west side of Greeley, Colorado. The project length is approximately 4.2 miles. The purpose is to accommodate future travel demand and improve mobility, safety, and access. An Environmental Assessment was completed on September 28, 2005 and a Finding of No Significant Impact issued on May 2, 2006.

16. Project: US 287 from SH 1 to the LaPorte Bypass. Location: Cities of Fort Collins and LaPorte, Larimer County. Project Reference Number STA 2873-100. This project will reconstruct US 287 from two to four lanes for two miles between SH 1 and the Laporte Bypass intersection east of the community of LaPorte. The purpose is to improve safety and accommodate existing and future traffic. An Environmental Assessment was completed on October 1, 2004 and a Finding of no Significant Impacts was issued on June 14, 2006.

17. Project: U.S. Highway 160 from Durango to Bayfield. Location: Cities of Durango Gem Village, and Bayfield, La Plata County. Project Reference Number FC-NH(CX) 160-2 (048). The project proposes a 25.9km (16.2 mi) long, four-lane highway with shifts, realignments and grade separations in some locations. The project will also correct substandard roadway design, intersection deficiencies and relocate the existing U.S. 160/550 intersection. This fully access-controlled facility improvement will begin at milepost 88.0 east of Durango and end at milepost 104.2 located east of Bayfield. The project length is 1.9km (1.2 mi) extending from milepost 16.6, located at the U.S. 160/550 (south) intersection, to milepost 15.4, located south of the U.S. 550/County Road 220 intersection. A Final Environmental Impact Statement for the project was approved on May 12, 2006. A Record of Decision was issued on November 7, 2006. The FHWA FEIS and ROD can be viewed and downloaded from the project Web site at http://www.dot.state.co.us/US160/EIS/index.cfm or viewed at public libraries in the project area.

(Catalogue of Federal Domestic Assistance Program Number 20.205, Highway Planning and Construction. The regulations implementing Executive Order 12372 regarding intergovernmental consultation on Federal programs and activities apply to this program)

Authority: U.S.C. 139(1)(1).

David A. Nicol,
Federal Highway Administration, Colorado Division Administrator, Lakewood, CO.

[FR Doc. 07-2350 Filed 5-11-07; 8:45 am]

BILLING CODE 4910-RY-M